SMALL BUSINESS ADMINISTRATION

Senior Executive Service: Performance Review Board Members

AGENCY: U.S. Small Business Administration.

ACTION: Notice of Members for the FY 2012 Performance Review Board.

SUMMARY: Title 5 U.S.C. 4314(c)(4) requires each agency to publish notification of the appointment of individuals who may serve as members of that Agency's Performance Review Board (PRB). The following individuals have been designated to serve on the FY 2012 Performance Review Board for the U.S. Small Business Administration.

1. Delorice Ford, PRB Chairperson, Assistant Administrator Hearings and Appeals

2. Nicholas Coutsos, Assistant Administrator for Congressional and Legislative Affairs

3. Nina Levine, Associate General Counsel for Financial Law and Lender Oversight

4. Pravina Raghavan, District Director, New York District Office

5. John A. Miller, Assistant Administrator for Financial Program Operations in Capital Access

6. Jonathan Swain, Chief of Staff

Karen G. Mills,
Administrator.

[FR Doc. 2012-28242 Filed 11-21-12; 8:45 am]

BILLING CODE 8025-01-P